DEPARTMENT OF DEFENSE

Department of the Army

Availability for Non-Exclusive, Exclusive, or Partially Exclusive Licensing of U.S. Patent Application Concerning Nasopharyngeal Airway With Reflectance Pulse Oximeter Sensor

AGENCY: U.S. Army Medical Research and Materiel Command, DoD.

ACTION: Notice.

SUMMARY: In accordance with 37 CFR 404.6, announcement is made of the availability for licensing of U.S. Patent Application Serial Number 09/389,354 entitled “Nasopharyngeal Airway with Reflectance Pulse Oximeter Sensor”, filed September 3, 1999. This patent has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: Ms. Elizabeth Arwine, Patent Attorney, (301) 619-7808 or telefax (301) 619-5034.

SUPPLEMENTARY INFORMATION: A combined nasopharyngeal airway and pulse oximeter sensor capable of monitoring the posterior pharynx, posterior soft palate or nasal mucosa. The nasopharyngeal airway includes a thickened wall section over approximately one-third of its circumference. Pulse oximeter sensor elements may include a light source, which emits light at wavelengths around 660 nm (red) and around 940 nm (near infrared) and a light detector. The pulse oximeter sensor elements may be connected to a pulse oximeter monitor (spectrophotometer) or other external device for analysis.

Gregory D. Showalter,
Army Federal Register Liaison Officer.

[FR Doc. 00-20567 Filed 8-11-00; 8:45 am]

BILLING CODE 3710-08-M